DEPARTMENT OF JUSTICE

National Institute of Corrections

Solicitation for a Cooperative Agreement—“Executive Training for Women—Team Development”

AGENCY: National Institute of Corrections, Department of Justice.

ACTION: Solicitation for a cooperative agreement.

SUMMARY: The Department of Justice (DOJ), National Institute of Corrections (NIC), announced the availability of funds in FY2003 for a cooperative agreement to fund the project, “Executive Training for Women—Team Building”. This announcement, published in the Federal Register February 20, 2003, (Volume 68, Number 34, Page 8308-8311), is amended to clarify funding availability for FY2004.

Funds Available: The award amount will be limited to a maximum of $175,000 (direct and indirect costs) $100,00 will be paid in FY2003 and $75,000 in FY2004.

Number of Awards: One (1).

NIC Application Number: 03P22. This number should appear as a reference line in the cover letter, in box 11 of Standard Form 424, and on the outside of the envelope in which the application is sent.

Catalog of Federal Domestic Assistance Number is: 16.601, Title: Training and Staff Development.

Executive Order 12372: This program is not subject to the provisions of Executive Order 12372.

Dated: March 3, 2003.
Morris L. Thigpen,
Director, National Institute of Corrections.

[FR Doc. 03-5524 Filed 3-6-03; 8:45 am]

BILLING CODE 4410-36-M